DEPARTMENT OF DEFENSE

Office of the Secretary

Renewal of Department of Defense Federal Advisory Committees

AGENCY: Department of Defense.

ACTION: Renewal of Federal Advisory Committee.

SUMMARY: Under the provisions of the Federal Advisory Committee Act of 1972, (5 U.S.C. Appendix), the Government in the Sunshine Act of 1976 (5 U.S.C. 552b, as amended), and 41 CFR 102-3.50(d), the Department of Defense gives notice that it is renewing the charter for the Defense Health Board (hereafter referred to as the “Board”).

The Board is a non-discretionary Federal advisory committee that shall provide independent scientific advice and recommendations on matters relating to:

a. Operational programs;

b. Health policy development;

c. Health research programs and requirements for the treatment and prevention of disease and injury; and

d. Promotion of health and delivery of efficient, effective and high quality health care services to Department of Defense beneficiaries.

The Board is not established to provide advice on individual DoD procurements. No matter shall be assigned to the Board for its considerations that would require any Board members to participate personally and substantially in the conduct of an specific procurement or place him or her in the position of acting as a contracting or procurement official.

The Secretary of Defense, through the Under Secretary of Defense (Personnel and Readiness), may act upon the advice and recommendations of the Board.

The Board shall be composed of not more than 30 members who are eminent authorities within their respective disciplines related to clinical health care, disease and injury prevention, health care delivery and administration, and/or strategic decision-making in government, industry or academia.

The Board members shall be appointed by the Secretary of Defense, and their appointments must be renewed on an annual basis. Those members, who are not full-time or permanent part-time federal officers or employees, shall be appointed as experts and consultants under the authority of 5 U.S.C. 3109 and shall serve as special government employees.

Members may serve for periods up to four years. Such appointments will normally be staggered among the Board membership to ensure an orderly turnover in the Board's overall composition on a periodic basis. No Board member shall serve more than four consecutive years on the Board. Regular government officers or employees who participate in DoD's decision-making process for this Board are prohibited from serving on the Board or its subcommittees.

With the exception of travel and per diem for official travel, Board members shall normally serve without compensation, unless the Secretary of Defense authorizes compensation for a particular member(s).

The Secretary of Defense, after considering the recommendation of the Under Secretary of Defense (Personnel and Readiness), shall appoint the President of the Board from the Board membership. The Under Secretary of Defense (Personnel and Readiness), prior to his recommendation, may consult the Board membership. No Board member shall serve more than four years as Board President.

The Board shall select from within its membership a First Vice President and a Second Vice President. The First Vice President shall undertake the duties of the President in his or her absence, or as requested by the President of the Board. The Second Vice President shall fulfill this role as necessary.

With DoD approval, the Board is authorized to establish subcommittees, as necessary and consistent with its mission. These subcommittees shall operate under the provisions of the Federal Advisory Committee Act of 1972, the Government in the Sunshine Act of 1976 (5 U.S.C. 552b), and other governing Federal statutes and regulations.

Such subcommittees shall not work independently of the chartered Board, and shall report all their recommendations and advice to the Board for full deliberation and discussion. Subcommittees have no authority to make decisions on behalf of the chartered Board; nor can they report directly to the Department of Defense or any Federal officers or employees who are not Board members.

Subcommittee members, who are not Board members, shall be appointed by the Secretary of Defense according to governing DoD policy and procedures. Such individuals, if not full-time government employees, shall be appointed to serve as experts and consultants under the authority of 5 U.S.C. 3109, and serve as special government employees, whose appointments must be renewed on an annual basis.

FOR FURTHER INFORMATION: Contact Jim Freeman, Deputy Advisory Committee Management Officer for the Department of Defense, 703-601-6128.

SUPPLEMENTARY INFORMATION: The Committee shall meet at the call of the Committee's Designated Federal Officer, in consultation with the Board's President. The estimated number of Board meetings is four per year.

The Designated Federal Officer, pursuant to DoD policy, shall be a full-time or permanent part-time DoD employee, and shall be appointed in accordance with established DoD policies and procedures. In addition, the Designated Federal Officer is required to be in attendance for the full duration at all Board and subcommittee meetings; however, in the absence of the Designated Federal Officer, an Alternate Designated Federal Officer shall attend the entire Board or subcommittee meeting.

Pursuant to 41 CFR 102-3.105(j) and 102-3.140, the public or interested organizations may submit written statements to the Defense Health Board's membership about the Board's mission and functions. Written statements may be submitted at any time or in response to the stated agenda of planned meeting of Defense Health Board.

All written statements shall be submitted to the Designated Federal Officer for the Defense Health Board, and this individual will ensure that the written statements are provided to the membership for their consideration. Contact information for the Defense Health Board Designated Federal Officer can be obtained from the GSA's FACA Database— http://www.fido.gov/facadatabase/public.asp.

The Designated Federal Officer, pursuant to 41 CFR 102-3.150, will announce planned meetings of the Defense Health Board. The Designated Federal Officer, at that time, may provide additional guidance on the submission of written statements that are in response to the stated agenda for the planned meeting in question.

Dated: November 9, 2010.
Morgan F. Park,
Alternate OSD Federal Register Liaison Officer, Department of Defense.

[FR Doc. 2010-28753 Filed 11-12-10; 8:45 am]

BILLING CODE 5001-06-P